DEPARTMENT OF THE INTERIOR

Bureau of Land Management

[LLWYP0700.L16100000.DP0000.LXSS041K0000]

Notice of Availability of the Draft Resource Management Plan and Associated Environmental Impact Statement for the Buffalo Resource Management Plan Revision, Buffalo Field Office, WY

AGENCY: Bureau of Land Management, Interior.

ACTION: Notice of availability.

SUMMARY: In accordance with the National Environmental Policy Act (NEPA) of 1969, as amended, and the Federal Land Policy and Management Act (FLPMA) of 1976, as amended, the Bureau of Land Management (BLM) has prepared a Draft Resource Management Plan (RMP) and Draft Environmental Impact Statement (EIS) for the Buffalo Field Office and by this notice is announcing the opening of a 90-day comment period.

DATES: To ensure that comments will be considered, the BLM must receive written comments on the Draft RMP/EIS within 90 days following the date the Environmental Protection Agency publishes its Notice of Availability (NOA) of the Draft RMP/EIS in the Federal Register. The BLM will announce future meetings or hearings and any other public participation activities at least 15 days in advance through public notices, media releases, and/or the project Web site: http://www.blm.gov/wy/st/en/programs/Planning/rmps/buffalo.html.

ADDRESSES: You may submit comments by any of the following methods:

• Web site: http://www.blm.gov/wy/st/en/programs/Planning/rmps/buffalo.html.

• Email: BRMP_Rev_WYMail@blm.gov;

• Fax: (307) 684-1122;

• Mail: Buffalo RMP, BLM Buffalo Field Office, 1425 Fort Street, Buffalo, WY 82834; or

• By personal delivery to the Buffalo Field Office or at a BLM-hosted public meeting.

Copies of the Draft RMP/EIS are available in the Buffalo Field Office at the above address and at the following locations:

• Bureau of Land Management, Wyoming State Office, 5353 Yellowstone Road, Cheyenne, WY 82003

• Bureau of Land Management, High Plains District Office, 2987 Prospector Drive, Casper, WY 82604

Persons who use a telecommunications device for the deaf (TDD) may call the Federal Information Relay Service (FIRS) at 1-800-877-8339 to contact the above individual during normal business hours. The FIRS is available 24 hours a day, 7 days a week, to leave a message or question with the above individual. You will receive a reply during normal business hours.

FOR FURTHER INFORMATION CONTACT: Thomas Bills, Buffalo RMP Team Leader, BLM Buffalo Field Office, 1425 Fort Street, Buffalo, WY 82834; telephone 307-684-1133; or email BRMP_Rev_WYMail@blm.gov.

SUPPLEMENTARY INFORMATION: The planning area includes lands within the BLM Buffalo Field Office's administrative boundaries, including all of Campbell, Johnson, and Sheridan counties in Wyoming. The planning area includes all lands, regardless of jurisdiction, totaling approximately 7.35 million acres; however, the BLM will only make decisions on lands that fall under the BLM's jurisdiction. BLM-administered surface, totaling approximately 782,000 acres, and Federal mineral estate, totaling approximately 4.8 million acres, make up the decision area. BLM issued a Notice of Intent (NOI) on November 14, 2008, for the Buffalo RMP Revision Project and associated EIS, which initiated public scoping. Public meetings were held December 1-5, 2008. Approximately 130 members of the public attended the public scoping meetings held in Wright, Buffalo, Gillette, Sheridan, and Kaycee. The revised RMP will replace the 1985 Buffalo RMP as amended. The Draft RMP/EIS includes a series of management actions, within four management alternatives, designed to address management challenges and issues raised during scoping. These include, but are not limited to, energy development (coal, oil and gas, renewable energy, and uranium), wildlife habitat management including that of the greater sage-grouse, livestock grazing, air quality, lands with wilderness characteristics, suitability for wild and scenic river designation, special management areas including Areas of Critical Environmental Concern (ACEC), and travel management. The four alternatives are:

A. Alternative A: (No Action): Continues existing management;

B. Alternative B: Emphasizes conservation of natural and cultural resources while providing for compatible development and use;

C. Alternative C: Emphasizes resource development and use while protecting natural and cultural resources; and

D. Alternative D (Preferred): Provides development opportunities while protecting sensitive resources.

The preferred alternative has been identified as described in 40 CFR 1502.14(e). However, identification of a preferred alternative does not represent the final agency decision. The proposed RMP and final EIS will reflect changes or adjustments based on information received during public comment, new information, or changes in BLM policies or priorities. The proposed RMP may include portions of alternatives analyzed in the draft RMP/EIS. For this reason, the BLM encourages comments on all alternatives and management actions described in the Draft RMP/EIS.

In accordance with 43 CFR 1610.7-2(b) and BLM Manual 1613, this NOA announces a concurrent public comment period on proposed Areas of Critical Environmental Concern (ACECs). There are no designated ACECs in the existing BFO land use plan (Alternative A) and Alternative C does not propose designating any ACECs. Alternative B proposes eight ACECs and Alternative D proposes three ACECs. The management restrictions which would occur if areas proposed for designation were formally designated are different in alternatives B and D. In Alternative B, management for all ACEC's would prohibit all surface-disturbing activities not compatible with the area's values, including closing to all forms of solid and fluid mineral leasing and development; recommending withdrawal of all ACECs from locatable mineral entry; excluding ROWs; and either closing or limiting motorized vehicles to designated roads and trails. ACECs would be managed as visual resource management (VRM) class II, retention, under Alternative B.

Alternative D proposes ACEC specific management for the values of concern. The values of concern and the acres that would be designated under Alternatives B and D are as follows:

• Burnt Hollow, (Alternative B 17,208 acres, Alternative D not designated) Values: Visual resources, geologic features, and fragile watersheds.

• Cantontment Reno, (Alternative B 523 acres, Alternative D not designated) Value: Historic resources.

• Dry Creek Petrified Tree, (Alternative B 2,567 acres, Alternative D not designated) Value: Geologic features.

• Fortification Creek, (Alternatives B & D 32,602 acres) Values: Visual resources, wildlife resources, and fragile watersheds. Alternative D management would prohibit all surface-disturbing activities not compatible with the area's values; close the area to all forms of mineral activity including solid and fluid mineral leasing; recommend withdrawal from locatable mineral entry; exclude Rights of Ways (ROWs); and limit motorized vehicles to designated roads and trails.

• Hole-in-the-Wall, (Alternative B 11,952 acres, Alternative D not designated) Values: Visual and cultural resources.

• Pumpkin Buttes, (Alternatives B & D 1,733 acres) Value: Cultural resources. Alternative D management would prohibit surface-disturbing activities not compatible with the area's values including a No Surface Occupancy stipulation for new fluid mineral leases; recommend withdrawal from locatable mineral entry; exclude ROWs; and close the area to motorized vehicles.

• Sagebrush Ecosystem, (Alternative B 467,897 acres, Alternative D not designated) Value: Sagebrush ecosystems with dependent rare and sensitive species.

• Welch Ranch, (Alternatives B 1,748 acres, Alternative D 1,116 acres) Values: Visual resources, wildlife resources, and presence of a natural hazard. Alternative D management would prohibit all surface-disturbing activities not compatible with the area's values including closing the area to all forms of mineral leasing and development including solid minerals; recommend withdrawal from locatable mineral entry and exclude ROWs. Travel would be limited to administrative use on designated routes.

You may submit comments in writing to the BLM at any public meeting, or you may submit them to the BLM using one of the methods listed in the ADDRESSES section above. In order to reduce the use of paper and control costs, the BLM strongly encourages the public to submit comments electronically at the project Web site or via email. Only comments submitted using the methods described in the ADDRESSES section above will be accepted. Comments submitted must include the commenter's name and street address. Whenever possible, please include reference to either the page or section in the Draft RMP/EIS to which the comment applies. Before including your address, phone number, email address, or other personal identifying information in your comment, you should be aware that your entire comment—including your personal identifying information—may be made publicly available at any time. While you can ask us in your comment to withhold your personal identifying information from public review, we cannot guarantee that we will be able to do so.

All submissions from organizations or businesses, and from individuals identifying themselves as representatives or officials of organizations or businesses, are available for public inspection in their entirety.

Authority: 40 CFR 1506.6, 40 CFR 1506.10, 43 CFR 1610.2.

Donald A. Simpson,
State Director, Wyoming.

[FR Doc. 2013-15381 Filed 6-27-13; 8:45 am]

BILLING CODE 4310-22-P